DEPARTMENT OF THE INTERIOR

National Park Service

[NPS-WASO-NAGPRA-NPS0038194; PPWOCRADN0-PCU00RP14.R50000]

Notice of Inventory Completion: Longyear Museum of Anthropology, Colgate University, Hamilton, NY

AGENCY: National Park Service, Interior.

ACTION: Notice.

SUMMARY: In accordance with the Native American Graves Protection and Repatriation Act (NAGPRA), the Longyear Museum of Anthropology (LMA) has completed an inventory of human remains and associated funerary objects and has determined that there is a cultural affiliation between the human remains and associated funerary objects and Indian Tribes or Native Hawaiian organizations in this notice.

DATES: Repatriation of the human remains and associated funerary objects in this notice may occur on or after July 31, 2024.

ADDRESSES: Kelsey Olney-Wall, Repatriation Manager, University Museums, Colgate University, 13 Oak Drive, Hamilton, NY 13346, telephone (315) 228-7677, email kolneywall@colgate.edu.

SUPPLEMENTARY INFORMATION: This notice is published as part of the National Park Service's administrative responsibilities under NAGPRA. The determinations in this notice are the sole responsibility of the LMA, and additional information on the determinations in this notice, including the results of consultation, can be found in the inventory or related records. The National Park Service is not responsible for the determinations in this notice.

Abstract of Information Available

Based on the information available, human remains representing, at least, one individual have been reasonably identified. The 37 associated funerary objects are five bags of sand, one shard of glass or obsidian, one small rolled piece of tin, one beaver tooth fragment, 27 wampum/shell beads, one piece of charcoal, and one wood fragment. The Ancestral remains representing one individual are connected to a previous repatriation of an individual to the Onondaga Nation in 1979. The previously repatriated individual was removed from an unknown archaeological site, within the Onondaga Nation lands, between 1950 and 1970. According to a letter written by former curator Gary Urton to Rema Loeb, President, Chenango County Rights for American Indians Now, on January 31, 1979, the case displaying the individual and the associated funerary items were disassembled and moved into museum storage. On April 16, 1979, Gary Urton wrote a letter to Lee Lyons from Onondaga Nation, noting the individual was removed from Onondaga Nation lands. Urton worked with Mr. Lyons on returning the individual and the associated funerary items in the museum display. The two lower incisors, two bone fragments, and associated funerary objects included in this notice were inadvertently retained. No known hazardous substances are known to be present.

Cultural Affiliation

Based on the information available and the results of consultation, cultural affiliation is reasonably identified by the acquisition history of the human remains and associated funerary objects described in this notice.

Determinations

The LMA has determined that:

• The human remains described in this notice represent the physical remains of one individual of Native American ancestry.

• The 37 objects described in this notice are reasonably believed to have been placed intentionally with or near individual human remains at the time of death or later as part of the death rite or ceremony.

• There is a reasonable connection between the human remains and associated funerary objects described in this notice and the Onondaga Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 31, 2024. If competing requests for repatriation are received, the LMA must determine the most appropriate requestor prior to repatriation. Requests for joint repatriation of the human remains and associated funerary objects are considered a single request and not competing requests. The LMA is responsible for sending a copy of this notice to the Indian Tribes and Native Hawaiian organizations identified in this notice.

Authority: Native American Graves Protection and Repatriation Act, 25 U.S.C. 3003, and the implementing regulations, 43 CFR 10.10.

Dated: June 24, 2024.
Melanie O'Brien,
Manager, National NAGPRA Program.

[FR Doc. 2024-14472 Filed 6-28-24; 8:45 am]

BILLING CODE 4312-52-P